ENVIRONMENTAL PROTECTION AGENCY

40 CFR Part 52

[EPA-R04-OAR-2019-0171; FRL-10002-97-Region 4]

Air Plan Approval; Tennessee: Knox County Miscellaneous Revisions

AGENCY: Environmental Protection Agency (EPA).

ACTION: Final rule.

SUMMARY: The Environmental Protection Agency (EPA) is approving several Tennessee State Implementation Plan (SIP) revisions submitted by the Tennessee Department of Environment and Conservation (TDEC), on behalf of Knox County's Air Quality Management Division by a letter dated May 24, 2018. The submissions revise four sections of Knox County's Air Quality Management Regulations covering definitions, opening burning, permits and emissions reporting requirements. These actions are being approved pursuant to the Clean Air Act (CAA or Act).

DATES: This rule will be effective January 9, 2020.

ADDRESSES: EPA has established a docket for this action under Docket Identification No. EPA-R04-OAR-2019-0171. All documents in the docket are listed on the www.regulations.gov website. Although listed in the index, some information is not publicly available, i.e., Confidential Business Information or other information whose disclosure is restricted by statute. Certain other material, such as copyrighted material, is not placed on the internet and will be publicly available only in hard copy form. Publicly available docket materials are available either electronically through www.regulations.gov or in hard copy at the Air Regulatory Management Section, Air Planning and Implementation Branch, Air and Radiation Division, U.S. Environmental Protection Agency, Region 4, 61 Forsyth Street SW, Atlanta, Georgia 30303-8960. EPA requests that if at all possible, you contact the person listed in the FOR FURTHER INFORMATION CONTACT section to schedule your inspection. The Regional Office's official hours of business are Monday through Friday 8:30 a.m. to 4:30 p.m., excluding Federal holidays.

FOR FURTHER INFORMATION CONTACT: Sean Lakeman, Air Regulatory Management Section, Air Planning and Implementation Branch, Air and Radiation Division, U.S. Environmental Protection Agency, Region 4, 61 Forsyth Street SW, Atlanta, Georgia 30303-8960. The telephone number is (404) 562-9043. Mr. Lakeman can also be reached via electronic mail at lakeman.sean@epa.gov.

SUPPLEMENTARY INFORMATION:

I. Background

In a letter dated May 24, 2018, TDEC submitted SIP revisions to EPA for approval into the Knox County portion of the Tennessee SIP.¹ Specifically, the May 24, 2018, SIP revisions include changes to the following Knox County SIP-approved regulations: Section 13.0—“Definitions,” Section 16.0—“Open Burning,” Section 25.11—“Limiting a Source's Potential to Emit of VOC by Recordkeeping,” and Section 26.0—“Monitoring, Recording, and Reporting.” These revisions are intended, in part, to conform Knox County's regulations with the State of Tennessee's SIP-approved regulations.

¹ EPA notes that the Agency received the SIP revision on May 29, 2018.

See EPA's notice of proposed rulemaking (NPRM) published on October 22, 2019 (84 FR 56407) for further detail on the changes made in the July 2, 2018, submission. Comments were due on November 21, 2019, and EPA received no adverse comments on the NPRM. EPA is approving the changes to four sections of Knox County's rules: Section 13.0—“Definitions,” Section 16.0—“Open Burning,” Section 25.11—“Limiting a Source's Potential to Emit of VOC by Recordkeeping,” and Section 26.0—“Monitoring, Recording, and Reporting” because these changes are consistent with the CAA.

II. Incorporation by Reference

In this document, EPA is finalizing regulatory text that includes incorporation by reference. In accordance with requirements of 1 CFR 51.5, EPA is finalizing the incorporation by reference of Knox County's Air Quality Management Regulations, Section 13.0—“Definitions,” state effective January 24, 2018; Section 16.2—“Definitions,” state effective January 24, 2018; Section 25.11—“Limiting a Source's Potential to Emit of VOC by Recordkeeping,” state effective October 18, 2017; and Section 26.7—“Emission Inventory Requirements,” state effective October 18, 2017. These revisions are intended, in part, to conform Knox County's regulations with the State of Tennessee's SIP-approved regulations. EPA has made, and will continue to make, these materials generally available through www.regulations.gov and at the EPA Region 4 Office (please contact the person identified in the FOR FURTHER INFORMATION CONTACT section of this preamble for more information). Therefore, these materials have been approved by EPA for inclusion in the SIP, have been incorporated by reference by EPA into that plan, are fully federally enforceable under sections 110 and 113 of the CAA as of the effective date of the final rulemaking of EPA's approval, and will be incorporated by reference in the next update to the SIP compilation.²

² See 62 FR 27968 (May 22, 1997).

III. Final Action

EPA is approving the aforementioned changes to the Knox County portion of the Tennessee SIP submitted on May 24, 2018, that make revisions to Knox County's Air Quality Management Regulations, Section 13.0—“Definitions,” Section 16.0—“Open Burning,” Section 25.11—“Limiting a Source's Potential to Emit of VOC by Recordkeeping,” and Section 26.0—“Monitoring, Recording, and Reporting.” EPA views these changes as being consistent with the CAA.

IV. Statutory and Executive Order Reviews

Under the CAA, the Administrator is required to approve a SIP submission that complies with the provisions of the Act and applicable Federal regulations. See 42 U.S.C. 7410(k); 40 CFR 52.02(a). Thus, in reviewing SIP submissions, EPA's role is to approve state choices, provided that they meet the criteria of the CAA. These actions merely approve state law as meeting Federal requirements and would not impose additional requirements beyond those imposed by state law. For that reason, these actions:

• Are not significant regulatory actions subject to review by the Office of Management and Budget under Executive Orders 12866 (58 FR 51735, October 4, 1993) and 13563 (76 FR 3821, January 21, 2011);

• Are not Executive Order 13771 (82 FR 9339, February 2, 2017) regulatory actions because SIP approvals are exempted under Executive Order 12866;

• Do not impose an information collection burden under the provisions of the Paperwork Reduction Act (44 U.S.C. 3501 et seq.);

• Are certified as not having a significant economic impact on a substantial number of small entities under the Regulatory Flexibility Act (5 U.S.C. 601 et seq.);

• Do not contain any unfunded mandate or significantly or uniquely affect small governments, as described in the Unfunded Mandates Reform Act of 1995 (Pub. L. 104-4);

• Do not have federalism implications as specified in Executive Order 13132 (64 FR 43255, August 10, 1999);

• Are not an economically significant regulatory action based on health or safety risks subject to Executive Order 13045 (62 FR 19885, April 23, 1997);

• Are not a significant regulatory action subject to Executive Order 13211 (66 FR 28355, May 22, 2001);

• Are not subject to requirements of Section 12(d) of the National Technology Transfer and Advancement Act of 1995 (15 U.S.C. 272 note) because application of those requirements would be inconsistent with the CAA; and

• Do not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by February 10, 2020. Filing a petition for reconsideration by the Administrator of this final rule does not affect the finality of this action for the purposes of judicial review nor does it extend the time within which a petition for judicial review may be filed, and shall not postpone the effectiveness of such rule or action. This action may not be challenged later in proceedings to enforce its requirements. See section 307(b)(2).

List of Subjects in 40 CFR Part 52

Environmental protection, Air pollution control, Incorporation by reference, Lead, Nitrogen dioxide, Ozone, Particulate matter, Reporting and recordkeeping requirements, Sulfur oxides, Volatile organic compounds.

Dated: November 25, 2019.
Mary S. Walker,
Regional Administrator, Region 4.

40 CFR part 52 is amended as follows:

PART 52—APPROVAL AND PROMULGATION OF IMPLEMENTATION PLANS

1. The authority citation for part 52 continues to read as follows:

Authority: 42 U.S.C. 7401 et seq.

Subpart RR—Tennessee

2. Section 52.2220(c), Table 3, is amended by:

a. Revising the entries for “13.0” and “16.0.”

b. Adding an entry for “16.2” in numerical order; and

c. Under the heading “Section 25.0—Permits”:

i. Removing the entry for “25.2; 25.4; 25.5; 25.6; 25.7; 25.10; 25.11” and adding the entry “25.2; 25.4; 25.5; 25.6; 25.7; 25.10” in its place;

ii. Adding an entry for “25.11” in numerical order;

iii. Revising the entry for “26.0”; and

iv. Adding an entry for “26.7” in numerical order.

The revisions and additions read as follows:

§ 52.2220 Identification of plan.

* * * * *

(c) * * *

Table 3—EPA-Approved Knox County, Regulations
State section | Title/subject | State effective date | EPA approval date | Explanation
* * * * * * *
13.0 | Definitions | 1/24/2018 | 12/10/2019; [Insert citation of publication]
* * * * * * *
16.0 | Open Burning | 12/14/2005 | 1/3/07, 72 FR 20 | With the exception of 16.2—Definitions.
16.2 | Definitions | 1/24/2018 | 12/10/2019; [Insert citation of publication]
* * * * * * *
Section 25.0—Permits
* * * * * * *
25.2; 25.4; 25.5; 25.6; 25.7; 25.10 | Application for Permit; Compliance Schedule; Reporting of Information; Exemptions; Payment of Fees; Permit by Rule | 3/12/2014 | 4/22/2016, 81 FR 23640
25.11 | Limiting a Source's Potential to Emit of VOC by Recordkeeping | 10/18/2017 | 12/10/2019; [Insert citation of publication]
26.0 | Monitoring, Recording, and Reporting | 1/21/2015 | 11/5/2015, 80 FR 68450 | With the exception of 26.7—Emission Inventory Requirements.
26.7 | Emission Inventory Requirements | 10/18/2017 | 12/10/2019; [Insert citation of publication]
* * * * * * *

* * * * *

[FR Doc. 2019-26465 Filed 12-9-19; 8:45 am]

BILLING CODE 6560-50-P